DEPARTMENT OF ENERGY

Federal Energy Regulatory Commission

[Docket Nos. ER02-2074-002, et al.]

Alcoa Power Marketing, Inc., et al.; Electric Rate and Corporate Filings

April 20, 2006.

The following filings have been made with the Commission. The filings are listed in ascending order within each docket classification.

1. Alcoa Power Marketing, Inc., Alcoa Power Generating Inc.

[Docket Nos. ER02-2074-002, ER00-1372-003]

Take notice that on April 13, 2006, Alcoa Power Marketing, Inc. and Alcoa Power Generating Inc., tendered for filing their updated market analysis with respect to each company's authority to make sales at market-based rates.

Comment Date: 5 p.m. Eastern Time on April 28, 2006.

2. PacifiCorp

[Docket No. ER05-554-004]

Take notice that on April 3, 2006, PacifiCorp filed a supplemental compliance refund report pursuant to the Commission's August 25, 2005 letter order.

Comment Date: 5 p.m. Eastern Time on April 28, 2006.

3. PJM Interconnection, L.L.C.

[Docket No. ER06-657-001]

Take notice that April 14, 2006 PJM Interconnection, L.L.C. filed an amendment to its February 21, 2006 filing, an executed interconnection service agreement and an executed construction agreement with Bethlehem Renewable Energy L.L.C. and PPL Electric Utilities.

Comment Date: 5 p.m. Eastern Time on May 5, 2006.

4. Bear Energy LP

[Docket No. ER06-864-000]

Take notice that on April 13, 2006, Bear Energy LP tendered for filing a Notice of Succession as a result of a corporation name change and a revised Rate Schedule, reflecting the name change.

Comment Date: 5 p.m. Eastern Time on April 28, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-6335 Filed 4-26-06; 8:45 am]

BILLING CODE 6717-01-P